DEPARTMENT OF LABOR

Employment and Training Administration

Notice of Revised Determination on Reconsideration

[TA-W-85,429]

San Bernardino Sun, A Subsidiary of California Newspaper Partnership, Magazine Advertisement Unit, San Bernandino, California

[TA-W-85,429A]

Inland Valley Daily Bulletin, A Subsidiary of California Newspaper Partnership, Magazine Advertisement Unit, Ontario, California

By application dated November 3, 2014, the State of California requested administrative reconsideration of the Negative Determination Regarding Eligibility to Apply for Worker Adjustment Assistance and Alternative Trade Adjustment Assistance applicable to workers and former workers of San Bernardino Sun, a subsidiary of California Newspapers Partnership, San Bernardino, California (SBSUN) and Inland Valley Daily Bulletin, a subsidiary of California Newspapers Partnership, Ontario, California (IVDB). SBSUN and IVDB are engaged in the production of newspapers.

On October 6, 2014, the Department issued a determination which identified SBSUN and IVDB as one firm located in Ontario, California, and stated that the subject firm did not shift production of newspapers, or like or directly competitive articles, to a foreign country; did not increase imports of newspapers, or like or directly competitive articles; and is neither a Supplier or Downstream Producer to a firm that employer a worker group eligible to apply for Trade Adjustment Assistance (TAA) under Section 222(a) of the Trade Act of 1974, as amended.

The request for reconsideration included new information which clarifies that SBSUN and IVADB are different entities and supported the petitioner's allegation that magazine advertisement production shifted from California to a foreign country.

During the reconsideration investigation, the Department carefully reviewed new and previously-submitted information from several separated workers, the State of California, the subject firm, and public sources. The Department also reviewed industry trends with regards to like or directly competitive articles.

Consequently, the Department determines that the subject worker group was incorrectly identified to consist of workers and former workers of one firm instead of two affiliated firms—SBSUN and IVDB—and clarifies that the subject worker groups consist of workers within the “Magazine Advertisement Unit” of the after-mentioned firms (SBSUN-MAU and IVCB-MAU, respectively). The Department also determines that, with regards to SBSUN-MAU and IVCB-MAU, the group eligibility criteria have been met.

Section 222(a)(1) has been met because a significant number or proportion of the workers in SBSUN-MAU and IVCB-MAU have become totally or partially separated.

Section 222(a)(2)(B) has been met because the employment declines within SBSUN-MAU and IVCB-MAU are related to the shift in production of magazine advertisements to a foreign country followed by likely or actual increased imports of magazine advertisements (or like or directly competitive articles).

In accordance with Section 246 the Trade Act of 1974, as amended (“Act”), 26 U.S.C. 2813, the Department herein presents the results of its investigation regarding certification of eligibility to apply for alternative trade adjustment assistance (ATAA) for older workers.

The group eligibility requirements for workers of a firm under Section 246 (a)(3)(A)(ii) of the Trade Act are satisfied if the following criteria are met:

(I) Whether a significant number of workers in the workers' firm are 50 years of age or older;

(II) Whether the workers in the workers' firm possess skills that are not easily transferable; and

(III) The competitive conditions within the workers' industry (i.e., conditions within the industry are adverse).

Section 246(a)(3)(A)(ii)(I) has been met because a significant number of workers in the firms are 50 years of age or older. Section 246(a)(3)(A)(ii)(II) has been met because the workers in the workers' firms possess skills that are not easily transferrable. Section 246(a)(3)(A)(ii)(III) has been met because conditions within the workers' industry are adverse.

Conclusion

After careful review of information obtained during the initial and reconsideration investigations, I determine that workers of SBSUN-MAU and IVCB-MAU, who are engaged in employment related to the production of advertisements, meet the worker group certification criteria under Section 222(a) of the Act, 19 U.S.C. 2272(a). In accordance with Section 223 of the Act, 19 U.S.C. 2273, I make the following certification:

All workers of San Bernardino Sun, a subsidiary of California Newspapers Partnership, Magazine Advertisement Unit, San Bernardino, California (TA-W-85,429), and Inland Valley Daily Bulletin, a subsidiary of California Newspapers Partnership, Magazine Advertisement Unit, Ontario, California (TA-W-85,429A), who became totally or partially separated from employment on or after July 15, 2013 through two years from the date of this certification are eligible to apply for adjustment assistance under Section 223 of the Trade Act of 1974, and are eligible to apply for alternative trade adjustment assistance under Section 246 of the Trade Act of 1974.

Signed at Washington, DC, this 28th day of April 2015.
Del Min Amy Chen,
Certifying Officer, Office of Trade Adjustment Assistance.

[FR Doc. 2015-12082 Filed 5-18-15; 8:45 am]

BILLING CODE 4510-FN-P